DEPARTMENT OF ENERGY

Federal Energy Regulatory Commission

[Docket No. ER95-1739-022, et al.]

Cogentrix Energy Power Marketing, Inc., et al.; Electric Rate and Corporate Filings

November 8, 2004.

The following filings have been made with the Commission. The filings are listed in ascending order within each docket classification.

1. Cogentrix Energy Power Marketing, Inc., Cogentrix Lawrence County, LLC, Green Country Energy, LLC, Quachita Power, LLC, Rathdrum Power, LLC, Southaven Power, LLC

[Docket Nos. ER95-1739-022, ER01-1819-003, ER99-2984-004, ER02-2026-002, ER99-3320-002, and ER03-922-003]

Take notice that on November 1, 2004, Cogentrix Energy Power Marketing, Inc., Cogentrix Lawrence County, LLC, Green Country Energy, LLC, Quachita Power, LLC, Rathdrum Power, LLC, and Southaven Power, LLC filed with the Federal Energy Regulatory Commission a combined triennial updated market analysis. In addition, Cogentrix Lawrence County, LLC, Green Country Energy, LLC, Quachita Power, LLC, and Rathdrum Power, LLC tendered for filing revised market-based rate tariffs incorporating the Market Behavior Rules set forth in the Commission's November 17, 2003, and May 19, 2004, orders in Docket Nos. EL01-118-000, EL01-118-001, and EL01-118-003, Investigation of Terms and Conditions of Public Utility Market-Based Rate Authorizations, 105 FERC ¶ 61,218 (2003), order on reh'g, 107 FERC ¶ 61,175 (2004).

Comment Date: 5 p.m. eastern time on November 22, 2004.

2. Midwest Independent Transmission System Operator, Inc.

[Docket No. ER02-2595-006]

Take notice that, on November 1, 2004, the Midwest Independent Transmission System Operator, Inc. (Midwest ISO) submitted a compliance filing pursuant to the Commission's September 16, 2004 Order in Midwest Independent Transmission System Operator, Inc., 108 FERC ¶ 61,235 (2004).

Comment Date: 5 p.m. eastern time on November 22, 2004.

3. Midwest Independent Transmission System Operator, Inc.

[Docket No. ER04-961-002]

Take notice that, on November 1, 2004, the Midwest Independent Transmission System Operator, Inc. (Midwest ISO) submitted a compliance filing pursuant to the Commission's October 1, 2004, Order in Midwest Independent Transmission System Operator, Inc., 109 FERC ¶ 61,005 (2004).

Comment Date: 5 p.m. eastern time on November 22, 2004.

4. Midwest Independent Transmission System Operator, Inc.

[Docket No. ER04-1093-001]

Take notice that on November 1, 2004, Midwest Independent Transmission System Operator, Inc. (Midwest ISO) submitted a withdrawal of its August 3, 2004, filing of the Facilities Construction Agreement between Minnesota Power and the Midwest ISO in Docket No. ER04-1093-000.

Comment Date: 5 p.m. eastern time on November 22, 2004.

5. ISO New England Inc.

[Docket No. ER05-134-000]

Take notice that on November 1, 2004, ISO New England Inc. (ISO) filed revised tariff sheets for recovery of its administrative costs for 2005. The ISO requests an effective date of January 1, 2005.

The ISO states that copies of the transmittal letter were served upon all Participants in the New England Power Pool (NEPOOL) and all non-Participant entities that are customers under the NEPOOL Open Access Transmission Tariff, as well as on the governors and utility regulatory agencies of the six New England States, and the New England Conference of Public Utility Commissioners. The ISO also states that the Participants were served with the entire filing electronically. The ISO further states that the entire filing is posted on the ISO's Web site (http://www.iso-ne.com).

Comment Date: 5 p.m. eastern time on November 22, 2004.

6. ISO New England, Inc.

[Docket No. ER05-135-000]

Take notice that on November 1, 2004, ISO New England Inc. (the ISO) tendered for filing changes to its Capital Funding tariff. The ISO requests an effective date of January 1, 2005.

The ISO states that copies of the transmittal letter were served upon all Participants in the New England Power Pool (NEPOOL), as well as on the governors and utility regulatory agencies of the six New England States, and the New England Conference of Public Utility Commissioners. The ISO also states that the entire filing is posted on the ISO's Web site (http://www.iso-ne.com).

Comment Date: 5 p.m. eastern time on November 22, 2004.

7. Southern Company Services, Inc.

[Docket No. ER05-136-000]

Take notice that on November 1, 2004, Southern Company Services, Inc. (SCS), acting on behalf of Alabama Power Company (APC), Georgia Power Company, Gulf Power Company, Mississippi Power Company, and Savannah Electric and Power Company (collectively referred to as Southern Companies), filed two agreements for network integration transmission service between Southern Companies and Generation and Energy Marketing, a department of SCS, as agent for APC, under the Open Access Transmission Tariff of Southern Companies (FERC Electric Tariff, Fourth Revised Volume No. 5). SCS states that pursuant to these agreements, power will be delivered to Tombigbee EMC and to Black Warrior EMC at the delivery points specified in the agreements.

Comment Date: 5 p.m. eastern time on November 22, 2004.

8. Reliant Energy Bighorn, LLC

[Docket No. ER05-137-000]

Take notice that on November 1, 2004, Reliant Energy Bighorn, LLC (Bighorn) submitted for filing a Notice of Cancellation of its FERC Electric Tariff, Original Volume No. 1. Bighorn requests an effective date of November 1, 2004.

Comment Date: 5 p.m. eastern time on November 22, 2004.

9. Reliant Energy Etiwanda, Inc.

[Docket No. ER05-138-000]

Take notice that on November 1, 2004, Reliant Energy Etiwanda. Inc. (Etiwanda) tendered for filing revised pages for its Rate Schedule FERC No. 2, Must-Run Service Agreement. Etiwanda states that the revised pages contain revisions and updates to the schedules to the Must-Run Service Agreement, in light of the California Independent System Operator Corporation (CAISO) extension of the Must-Run Service Agreement through December 31, 2005. Etiwanda requests an effective date of January 1, 2005.

Etiwanda states that this filing has been served upon the CAISO, the California Public Utilities Commission, the California Electricity Oversight Board and Southern California Edison Company.

Comment Date: 5 p.m. eastern time on November 22, 2004.

10. Reliant Energy Choctaw County, LLC

[Docket No. ER05-139-000]

Take notice that on November 1, 2004, Reliant Energy Choctaw County, LLC (Choctaw) submitted for filing a Notice of Cancellation of its FERC Electric Tariff, Original Volume No. 1. Choctaw requests an effective date of October 1, 2004.

Comment Date: 5 p.m. eastern time on November 22, 2004.

11. Reliant Energy Osceola, LLC

[Docket No. ER05-140-000]

Take notice that on November 1, 2004, Reliant Energy Osceola, LLC (Osceola) submitted for filing a Notice of Cancellation of its FERC Electric Tariff, Revised Volume No. 1. Osceola requests an effective date of October 1, 2004.

Comment Date: 5 p.m. eastern time on November 22, 2004.

12. American Electric Power Service Corporation

[Docket No. ER05-141-000]

Take notice that on November 1, 2004, American Electric Power Service Corporation (AEPSC), on behalf of AEP Generating Company (AEG) and Kentucky Power Company (KPC), tendered for filing a proposed extension of the term of an agreement for the sale of power by AEG to KPC. AEPSC seeks an effective date of January 1, 2005.

AEPSC states that copies of the filing have been served on the state public utility commissions in Indiana, Kentucky, Michigan, Ohio, Tennessee, Virginia, and West Virginia.

Comment Date: 5 p.m. eastern time on November 22, 2004.

13. ONEOK Energy Services, L.P.

[Docket No. ER05-142-000]

Take notice that on November 1, 2004, ONEOK Energy Services, L.P., (OESC) filed a Notice of Succession to adopt ONEOK Energy Marketing and Trading, L.P's market-based rate authorization and amendment to its FERC Electric Tariff, Original Volume No. 1. OESC requests an effective date of August 24, 2004.

Comment Date: 5 p.m. eastern time on November 22, 2004.

14. Reliant Energy Florida, LLC

[Docket No. ER05-143-000]

Take notice that on November 1, 2004, Reliant Energy Florida, LLC (Reliant Florida) submitted a Notice of Succession to the FERC Electric Tariff, Original Volume No. 1 of Reliant Energy Indian River, LLC. Reliant Florida requests an effective date of October 1, 2004.

Comment Date: 5 p.m. eastern time on November 22, 2004.

15. Midwest Independent Transmission System Operator, Inc.

[Docket No. ER05-144-000]

Take notice that on November 1, 2004, the Midwest Independent Transmission System Operator, Inc. (Midwest ISO), and International Transmission Company (International Transmission), filed First Revised Sheet No. 399L.27 and First Revised Sheet No. 399L.35 to amend that part of Attachment O of the Midwest ISO's Open Access Transmission Tariff (OATT) that governs the rates in International Transmission's rate zone to correct an inconsistency with respect to the treatment of long-term interest as described in the Commission Uniform System of Accounts. Midwest ISO and International Transmission request effective dates of June 1, 2005, for First Revised Sheet No. 399L.27 and June 1, 2006, for First Revised Sheet No. 399L.35.

Midwest ISO and International Transmission state that they have electronically served a copy of this filing, with attachments, upon all Midwest ISO Members, Member representatives of Transmission Owners and Non-Transmission Owners, the Midwest ISO Advisory Committee participants, as well as all state commissions within the region and that the filing has been electronically posted on the Midwest ISO's Web site at http://www.midwestiso.org under the heading “Filings to FERC” for other interested parties in this matter. The Midwest ISO and International Transmission state that they will provide hard copies to any interested parties upon request.

Comment Date: 5 p.m. eastern time on November 22, 2004.

16. Wayne-White Counties Electric Cooperative

[Docket No. ER05-145-000]

Take notice that on November 1, 2004, Wayne-White Counties Electric Cooperative (Wayne-White) submitted a Notice of Cancellation of Wayne-White Counties First Revised Rate Schedule FERC No. 2, an Operations Agreement between Wayne-White and the City of Fairfield, Illinois. Wayne-White requests an effective date of January 1, 2005.

Wayne-White states that a copy of this filing has been served on the Illinois Commerce Commission and the City of Fairfield, Illinois, the sole customer under the Operations Agreement.

Comment Date: 5 p.m. eastern time on November 22, 2004.

17. Virginia Electric and Power Company

[Docket No. ER05-146-000]

Take notice that on November 1, 2004, Virginia Electric and Power Company (Dominion Virginia Power) tendered for filing Appendix B to the original terms of the Service Agreement for Network Integration Transmission Service under its Open Access Transmission Tariff, FERC Electric Tariff, Second Revised Volume No. 5, between Dominion Virginia Power and Old Dominion Electric Cooperative. Dominion Virginia Power requests an effective date of November 2, 2004. In the alternative, Dominion Virginia Power requests an effective date of November 30, 2004, which is the day before Dominion's scheduled date to be integrated into PJM pending in Docket No. ER04-829-000.

Dominion Virginia Power states that copies of the filing were served upon Old Dominion Electric Cooperative, the Virginia State Corporation Commission, and the North Carolina Utilities Commission.

Comment Date: 5 p.m. eastern time on November 22, 2004.

18. Southern California Edison Company

[Docket No. ER05-148-000]

Take notice that on November 1, 2004, Southern California Edison Company (SCE) submitted revised rate sheets and Notices of Cancellation for the following agreements between SCE and the Department of Water Resources of the State of California (CDWR):

Agreement | Rate schedule FERC No. | Effective date
Power Contract | 112 | April 1, 1983.
Operating Procedures for SCE/CDWR Power Contract and SCE/CDWR Agreement for Emergency Services | 464 | April 1, 1983.
Agreement for Emergency Services | 122 | December 14, 1980.
Capacity Exchange Agreement | 148 | April 2, 1987.

SCE states that copies of the filing were served upon the Public Utilities Commission of the State of California, the California Independent System Operator Corporation, and CDWR.

Comment Date: 5 p.m. eastern time on November 22, 2004.

19. California Independent System Operator Corporation

[Docket No. ER05-149-000]

Take notice that on November 1, 2004, the California Independent System Operator Corporation (ISO) tendered for filing Amendment No. 2 to the Interconnected Control Area Operating Agreement between the ISO and the Sacramento Municipal Utility District (SMUD) to accommodate a planned change in control area boundaries related to the decision of the Western Area Power Administration—Sierra Nevada Region to join SMUD's Control Area. The ISO requests an effective date of January 1, 2005.

The ISO states that this filing has been served on SMUD, the California Public Utilities Commission, the California Electricity Oversight Board, and all entities that are on the official service list for Docket Nos. ER02-1641, ER03-1155 and ER04-690.

Comment Date: 5 p.m. eastern time on November 22, 2004.

20. California Independent System Operator Corporation

[Docket No. ER05-150-000]

Take notice that on November 1, 2004, the California Independent System Operator Corporation (ISO), tendered for filing a Utility Distribution Company Operating Agreement between the ISO and Trinity Public Utility District (Trinity) to accommodate a planned change in control area boundaries related to the decision of Western Area Power Administration—Sierra Nevada Region to join the Control Area of Sacramento Municipal Utility District. The ISO requests an effective date of January 1, 2005.

The ISO states that this filing has been served on Trinity, the California Public Utilities Commission, the California Electricity Oversight Board and all entities that are on the official service list for Docket No. ER04-690.

Comment Date: 5 p.m. eastern time on November 22, 2004.

21. California Independent System Operator Corporation

[Docket No. ER05-151-000]

Take notice that on November 1, 2004, the California Independent System Operator Corporation (ISO) tendered for filing a non-conforming Operating Agreement between the ISO and Western Area Power Administration—Sierra Nevada Region (Western) and revisions to the Meter Service Agreement for Scheduling Coordinators between the ISO and Western to accommodate a planned change in control area boundaries related to the decision of the Western to join the Control Area of the Sacramento Municipal Utility District. The ISO requests an effective date of January 1, 2005.

The ISO states that this filing has been served on Western, the Sacramento Municipal Utility District, the California Public Utilities Commission, the California Electricity Oversight Board, and all entities that are on the official service list for Docket No. ER04-690.

Comment Date: 5 p.m. eastern time on November 22, 2004.

22. California Independent System Operator Corporation

[Docket No. ER05-152-000]

Take notice that on November 1, 2004, the California Independent System Operator Corporation (ISO), tendered for filing revisions to the Participating Generator Agreement and the Responsible Participating Transmission Owner Agreement between the ISO and Pacific Gas and Electric Company (PG&E). The ISO requests that the revisions be made effective as of January 1, 2005.

The ISO states that this filing has been served on PG&E, the California Public Utilities Commission, the California Electricity Oversight Board, and all entities that are on the official service list for Docket No. ER04-690.

Comment Date: 5 p.m. eastern time on November 22, 2004

23. California Independent System Operator Corporation

[Docket No. ER05-153-000]

Take notice that on November 1, 2004, the California Independent System Operator Corporation (ISO) tendered for filing Notices of Cancellation of the Metered Subsystem Agreement between the ISO and the City of Roseville (Roseville) to accommodate a planned change in Control Area boundaries related to the decision of the Western Area Power Administration-Sierra Nevada Region to join the Control Area of the Sacramento Municipal Utility District planned for January 1, 2005.

The ISO states that this filing has been served on Roseville, the California Public Utilities Commission, the California Electricity Oversight Board, and all entities that are on the official service list for Docket No. ER04-690.

Comment Date: 5 p.m. eastern time on November 22, 2004.

24. California Independent System Operator Corporation

[Docket No. ER05-154-000]

Take notice that on November 1, 2004, the California Independent System Operator Corporation (ISO), tendered for filing a Dynamic Scheduling Agreement between the ISO and Calpine Energy Services, LP (Calpine). In addition, ISO tendered for filing notices of cancellation and service agreement cover sheets announcing the cancellation of the Participating Generator Agreement and the Meter Service Agreement for ISO Metered Entities between the ISO and Calpine Construction Finance Company, LP. ISO states that the purpose of these filings is to accommodate a planned change in Control Area boundaries related to the decision of the Western Area Power Administration-Sierra Nevada Region to join the Control Area of Sacramento Municipal Utility District. The ISO requests an effective date of January 1, 2005.

The ISO states that this filing has been served on Calpine, Calpine Construction Finance Company, LP, the California Public Utilities Commission, the California Electricity Oversight Board, and all entities that are on the official service list for Docket No. ER04-690.

Comment Date: 5 p.m. eastern time on November 22, 2004.

25. California Independent System Operator Corporation

[Docket No. ER05-155-000]

Take notice that on November 1, 2004, California Independent System Operator Corporation (ISO), tendered for filing the PACI—W Operating Agreement between the ISO and the Western Area Power Administration (Western) and the Interim COTP Operations Agreement between the ISO and the Transmission Agency for Northern California (TANC). The ISO requests an effective date of January 1, 2005.

The ISO states that this filing has been served on Western, TANC, Pacific Gas and Electric Company, the California Public Utilities Commission, the California Electricity Oversight Board, and all entities that are on the official service list for Docket No. ER04-693.

Comment Date: 5 p.m. eastern time on November 22, 2004.

26. Southwest Power Pool, Inc.

[Docket No. ER05-156-000]

Take notice that on November 1, 2004, Southwest Power Pool, Inc. (SPP) submitted to the Commission a new Attachment AD to its regional Open Access Transmission Tariff (OATT). SPP states that it submitted this revision in order to provide it and the Southwestern Power Administration (SWPA) additional time to reach an agreement governing the relationship between the two entities once SPP begins operations as a regional transmission organization (RTO). SPP requested an effective date of November 1, 2004.

SPP states that it has served a copy of its transmittal letter on each of its Members and Customers. A complete copy of this filing will be posted on the SPP Web site http://www.spp.org, and is also being served on all affected state commissions.

Comment Date: 5 p.m. eastern time on November 22, 2004.

27. Milford Power Company, LLC

[Docket No. ER05-163-000]

Take notice that on November 1, 2004, Milford Power Company, LLC (Milford) tendered for filing its proposed tariff and supporting cost data for its Cost-of-Service Agreement in order to receive compensation for provision of reliability service to ISO-New England, Inc. (ISO-NE). Milford requests an effective date of November 2, 2004. Milford states that it has served a copy of the filing on ISO-NE.

Comment Date: 5 p.m. eastern time on November 22, 2004.

28. Wisconsin Public Service Corporation

[Docket No. ER05-164-000]

Take notice that on November 1, 2004, Wisconsin Public Service Corporation (WPSC) filed a contract (PPA 2) for service to its affiliate Upper Peninsula Power Company (UPPCO) to replace the existing Purchased Power Agreement (PPA 1) between WPSC and UPPCO the term of which was to extend through December 31, 2007. WPSC requests an effective date of January 1, 2005. Also, contingent upon the January 1, 2005, effective date for PPA 1, WPSC submits, on behalf of itself and UPPCO, notices of cancellation for PPA 1.

WPSC states that this filing was served on the Public Service Commission of Wisconsin, the Michigan Public Service Commission and affected customers.

Comment Date: 5 p.m. eastern time on November 22, 2004.

29. New England Power Pool

[Docket No. ER05-165-000]

Take notice that on November 1, 2004, the New England Power Pool (NEPOOL) Participants Committee filed changes to NEPOOL Market Rule 1 Appendix F, which modify eligibility criteria for Operating Reserve Credit and clarify other Operating Reserve accounting language. The Participants Committee requests an effective date of January 1, 2005.

The Participants Committee states that copies of these materials were sent to the New England state governors and regulatory commissions and the Participants in NEPOOL.

Comment Date: 5 p.m. eastern time on November 22, 2004.

30. New England Power Pool

[Docket No. ER05-166-000]

Take notice that on November 1, 2004, the New England Power Pool (NEPOOL) Participants Committee submitted for filing acceptance materials to permit NEPOOL to expand its membership to include Direct Commodities Trading Inc. (DCT). The Participants Committee requests November 1, 2004, for the commencement of participation in NEPOOL by DCT.

NEPOOL and The Participants Committee state that the copies of these materials were sent to the New England state governors and regulatory commissions and the Participants in NEPOOL.

Comment Date: 5 p.m. eastern time on November 22, 2004.

31. East Texas Electric Cooperative, Inc.

[Docket No. ES04-41-001]

Take notice that on November 1, 2004, East Texas Electric Cooperative, Inc. (ETEC) submitted an application pursuant to section 204 of the Federal Power Act. The application requests that the Commission amend the authorization previously granted by the Commission in Docket No. ES04-41-000 so ETEC may assume secured or unsecured debt from the National Rural Utilities Cooperative Finance Corporation (CFC) in an amount up to $91,432,000. The instant application also seeks to increase the amount ETEC is authorized to borrow under the Equity Loan from $11,000,000 to $11,432,000.

Comment Date: 5 p.m. eastern time on November 17, 2004.

32. Energy West Development

[Docket No. TS05-2-000]

Take notice that on October 15, 2004, Energy West Development tendered for filing a request for a waiver or exemption from the requirements of Order No. 2004, FERC Stats. & Regs. ¶ 31,355 (2003).

Comment Date: 5 p.m. eastern time on November 15, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3180 Filed 11-16-04; 8:45 am]

BILLING CODE 6717-01-P